DEPARTMENT OF ENERGY

Federal Energy Regulatory Commission

Combined Notice of Filings #1

Take notice that the Commission received the following electric rate filings:

Docket Numbers: ER10-1946-008; ER11-3864-011; ER10-3231-001; ER10-3233-001.

Applicants: Broad River Energy LLC, EquiPower Resources Management, LLC, Wheelabrator Ridge Energy Inc., Wheelabrator South Broward Inc.

Description: Supplement to December 31, 2014 Triennial Market Power Analysis of the ECP MBR Sellers.

Filed Date: 5/19/15.

Accession Number: 20150519-5180.

Comments Due: 5 p.m. ET 6/9/15.

Docket Numbers: ER14-1464-002.

Applicants: Duke Energy Carolinas, LLC.

Description: Tariff Amendment per 35.17(b): Amendment to EUEMC NITSA SA No. 366 to be effective 5/1/2015.

Filed Date: 5/19/15.

Accession Number: 20150519-5168.

Comments Due: 5 p.m. ET 6/9/15.

Docket Numbers: ER15-1185-001.

Applicants: Midcontinent Independent System Operator, Inc.

Description: Compliance filing per 35: 2015-05-20_SA 766 ATC-WPSC Bill of Sale Compliance to be effective N/A.

Filed Date: 5/20/15.

Accession Number: 20150520-5057.

Comments Due: 5 p.m. ET 6/10/15.

Docket Numbers: ER15-1188-001.

Applicants: Midcontinent Independent System Operator, Inc.

Description: Compliance filing per 35: 2015-05-20_SA 2756 ATC-WPSC CFA Compliance to be effective N/A.

Filed Date: 5/20/15.

Accession Number: 20150520-5056.

Comments Due: 5 p.m. ET 6/10/15.

Docket Numbers: ER15-1538-000.

Applicants: Safe Harbor Water Power Corporation.

Description: Amendment to April 20, 2015 Safe Harbor Water Power Corporation tariff filing to be effective 4/21/2015.

Filed Date: 5/19/15.

Accession Number: 20150519-5185.

Comments Due: 5 p.m. ET 6/9/15.

Docket Numbers: ER15-1750-000.

Applicants: Southwest Power Pool, Inc.

Description: § 205(d) rate filing per 35.13(a)(2)(iii): 3026 Steele Flats GIA; Cancellation of 2893SO to be effective 4/23/2015.

Filed Date: 5/20/15.

Accession Number: 20150520-5044.

Comments Due: 5 p.m. ET 6/10/15.

Docket Numbers: ER15-1751-000.

Applicants: Southwest Power Pool, Inc.

Description: § 205(d) rate filing per 35.13(a)(2)(iii): 2573R1 Buckeye Wind Energy LLC GIA to be effective 4/29/2015.

Filed Date: 5/20/15.

Accession Number: 20150520-5051.

Comments Due: 5 p.m. ET 6/10/15.

Docket Numbers: ER15-1752-000.

Applicants: Southwest Power Pool, Inc.

Description: § 205(d) rate filing per 35.13(a)(2)(iii): 1166R24 Oklahoma Municipal Power Authority NITSA and NOA to be effective 6/1/2015.

Filed Date: 5/20/15.

Accession Number: 20150520-5093.

Comments Due: 5 p.m. ET 6/10/15.

Docket Numbers: ER15-1753-000.

Applicants: Southwest Power Pool, Inc.

Description: § 205(d) rate filing per 35.13(a)(2)(iii): 1313R9 Oklahoma Gas and Electric Company NITSA and NOA to be effective 6/1/2015.

Filed Date: 5/20/15.

Accession Number: 20150520-5095.

Comments Due: 5 p.m. ET 6/10/15.

Docket Numbers: ER15-1754-000.

Applicants: Alpaca Energy LLC.

Description: Initial rate filing per 35.12 FERC Electric MBR Tariff Application to be effective 7/17/2015.

Filed Date: 5/20/15.

Accession Number: 20150520-5100.

Comments Due: 5 p.m. ET 6/10/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 20, 2015.
Nathaniel J. Davis, Sr.,
Deputy Secretary.

[FR Doc. 2015-12696 Filed 5-26-15; 8:45 am]

BILLING CODE 6717-01-P